SECURITIES AND EXCHANGE COMMISSION

17 CFR PART 200

[Release No. 34-104595]

Delegation of Authority To Grant or Deny Exemptions From Rule 612 of Regulation NMS Under the Securities Exchange Act of 1934

AGENCY: Securities and Exchange Commission.

ACTION: Final rule; technical amendment.

SUMMARY: The Securities and Exchange Commission (“Commission”) is adopting a technical amendment to correct an outdated cross-reference in its rules delegating authority to the Commission's staff to grant certain exemptions.

DATES: The amendment is effective January 16, 2026.

FOR FURTHER INFORMATION CONTACT: Jennifer Dodd, Special Counsel, or Alba Baze, Attorney-Adviser, Office of Market Supervision, at (202) 551-5500, Division of Trading and Markets, Securities and Exchange Commission, 100 F Street NE, Washington, DC 20549.

SUPPLEMENTARY INFORMATION: Pursuant to 17 CFR 200.30-3, the Commission has delegated certain functions to the Director of the Division of Trading and Markets (“Director”) to be performed by the Director or under the Director's direction by such person or persons as may be designated from time to time by the Chairman of the Commission, including the authority to grant and deny exemptions from Rule 612. The Commission is amending 17 CFR 200.30-3(a)(83) to correct an outdated cross-reference to the subsection of Rule 612 that authorizes the Commission to grant exemptions from Rule 612. Currently, 17 CFR 200.30-3(a)(83) states that the Commission delegates to the Director the ability to “grant or deny exemptions from Rule 612 (17 CFR 242.612), pursuant to Rule 612(c) (17 CFR 242.612(c)).” On September 18, 2024, the Commission adopted Regulation NMS: Minimum Pricing Increments, Access Fees and Transparency of Better Priced Orders ¹ which, among other things, renumbered Rule 612(c), which provided the Commission's authority to grant exemptions from Rule 612, as Rule 612(d) without making any substantive changes to such authority. This amendment makes a technical correction to 17 CFR 200.30-3(a)(83) to reflect that renumbering.

¹ See Securities Exchange Act Release No. 101070, 89 FR 81620 (Oct. 8, 2024).

Statutory Authority

We are adopting this technical amendment under the authority set forth in sections 4A and 23(a) of the Securities Exchange Act of 1934.

List of Subjects in 17 CFR Part 200

Authority delegations (Government agencies).

Text of Amendments

For reasons set forth in the preamble, title 17, chapter II of the Code of Federal Regulations is amended as follows:

PART 200—ORGANIZATION; CONDUCT AND ETHICS; AND INFORMATION AND REQUESTS

Subpart A—Organization and Program Management

1. The authority citation for part 200, subpart A, continues to read in part as follows:

Authority: 15 U.S.C. 77z-3, 78d-1, 78d-2, 78w, and 78mm, unless otherwise noted.

* * * * *

2. Amend § 200.30-3 by revising paragraph (a)(83) to read as follows:

§ 200.30-3 Delegation of authority to Director of Division of Trading and Markets.

(a) * * *

(83) To grant or deny exemptions from Rule 612 (17 CFR 242.612), pursuant to Rule 612(d) (17 CFR 242.612(d)).

* * * * *

Date: January 13, 2026.
J. Matthew DeLesDernier,
Deputy Secretary.

[FR Doc. 2026-00811 Filed 1-15-26; 8:45 am]

BILLING CODE 8011-01-P